DEPARTMENT OF AGRICULTURE

Forest Service

Intergovernmental Advisory Committee Meeting

AGENCY: Forest Service, USDA.

ACTION: Notice of meeting.

SUMMARY: The Intergovernmental Advisory Committee will meet on February 3, 2000, at the Embassy Suites Portland Downtown, 319 SW Pine Street, Portland, Oregon 97204-2726. The purpose of the meeting is to continue discussions on the implementation of the Northwest Forest Plan. The meeting will begin at 9:30 a.m. and continue until 3:30 p.m. Agenda items to be discussed include, but are not limited to: briefings and discussion on the Survey and Manage Draft Supplemental Environmental Impact Statement, the new National Forest Management Act regulations, and the President's Roadless Area initiative. The IAC meeting will be open to the public is fully accessible for people with disabilities. Interpreters are available upon request in advance. Written comments may be submitted for the record at the meeting. Time will also be scheduled for oral public comments. Interested persons are encouraged to attend.

FOR FURTHER INFORMATION CONTACT: Questions regarding this meeting may be directed to Curt Loop, Acting Executive Director, Regional Ecosystem Office, 333 SW 1st Avenue, P.O. Box 3623, Portland, OR 97208 (Phone: 503-808-2180).

Dated: January 13, 2000.
Curtis A. Loop,
Acting Designated Federal Official.

[FR Doc. 00-1749 Filed 1-25-00; 8:45 am]

BILLING CODE 3410-11-M